DEPARTMENT OF HEALTH AND HUMAN SERVICES

Centers for Disease Control and Prevention

[30Day-13-13PQ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

DELTA FOCUS Program Evaluation—New—National Center for Injury Prevention and Control (NCIPC), Centers for Disease Control and Prevention (CDC).

Background and Brief Description

Intimate Partner Violence (IPV) is a serious, preventable public health problem that affects millions of Americans and results in serious consequences for victims, families, and communities. IPV occurs between two people in a close relationship. The term “intimate partner” describes physical, sexual, or psychological harm by a current or former partner or spouse. IPV can impact health in many ways, including long-term health problems, emotional impacts, and links to negative health behaviors. IPV exists along a continuum from a single episode of violence to ongoing battering; many victims do not report IPV to police, friends, or family.

The purpose of the DELTA FOCUS (Domestic Violence Prevention Enhancement and Leadership Through Alliances, Focusing on Outcomes for Communities United with States) program is to promote the prevention of IPV through the implementation and evaluation of strategies that create a foundation for the development of practice-based evidence. By emphasizing primary prevention, this program will support comprehensive and coordinated approaches to IPV prevention. Each state domestic violence coalition is required to identify and fund one to two well-organized, broad-based, active local coalitions (referred to as coordinated community responses or CCRs) that are already engaging in, or are at capacity to engage in, IPV primary prevention strategies affecting the structural determinants of health at the societal and/or community levels of the social ecological model. State Domestic Violence Coalitions (SDVCs) must facilitate and support local-level implementation and hire empowerment evaluators to support the evaluation of IPV prevention strategies by the CCRs. SDVCs must also implement and with their empowerment evaluators, evaluate state-level IPV prevention strategies.

CDC seeks OMB approval for one year to collect information electronically from awardees, their CCRs and their empowerment evaluators. Data will be collected in year one and analyzed and disseminated in years two and three. A reinstatement request will be made to collect data in the fourth year of the program. Information will be collected using the DELTA FOCUS Program Evaluation Survey (referred to as DF Survey). The DF survey will collect information about SDVCs satisfaction with CDC efforts to support them; process, program and strategy implementation factors that affect their ability to meet the requirements of the funding opportunity announcement; prevention knowledge and use of the public health approach; and sustainability of prevention activities and successes.

The DF Survey will be completed by 10 SDVC executive directors, 10 SDVC project coordinators, 19 CCR project coordinators, and 10 SDVC empowerment evaluators and take a maximum of 1 hour to complete. The total estimated annualized burden is 49 hours.

There are no costs to respondents other than their time.

Estimated Annualized Burden to Respondents
Type of respondents | Form name | Number of respondents | Number of responses per respondent | Average burden per response (in hours)
State Domestic Violence Coalition Executive Director | DELTA FOCUS Survey | 10 | 1 | 1
State Domestic Violence Coalition Project Coordinator | DELTA FOCUS Survey | 10 | 1 | 1
Coordinated Community Response Project Coordinator | DELTA FOCUS Survey | 19 | 1 | 1
State Domestic Violence Coalition Empowerment Evaluator | DELTA FOCUS Survey | 10 | 1 | 1

Leroy A. Richardson,
Chief, Information Collection Review Office, Office of Scientific Integrity, Office of the Associate Director for Science, Office of the Director, Centers for Disease Control and Prevention.

[FR Doc. 2013-16254 Filed 7-5-13; 8:45 am]

BILLING CODE 4163-18-P